FEDERAL MARITIME COMMISSION

Notice of Agreements Filed

The Commission hereby gives notice of the filing of the following agreements under the Shipping Act of 1984. Interested parties may submit comments, relevant information, or documents regarding the agreements to the Secretary by email at Secretary@fmc.gov, or by mail, Federal Maritime Commission, Washington, DC 20573. Comments will be most helpful to the Commission if received within 12 days of the date this notice appears in the Federal Register. Copies of agreements are available through the Commission's website (www.fmc.gov) or by contacting the Office of Agreements at (202) 523-5793 or tradeanalysis@fmc.gov.

Agreement No.: 011284-081.

Agreement Name: Ocean Carrier Equipment Management Association.

Parties: Maersk A/S and Hamburg-Sud (acting as a single party); CMA CGM S.A., APL Co. Pte Ltd., and American President Lines, Ltd., (acting as a single party); COSCO SHIPPING Lines Co., Ltd. and Orient Overseas Container Line Limited (acting as a single party); Evergreen Line Joint Service Agreement; Ocean Network Express Pte. Ltd.; Hapag-Lloyd AG and Hapag-Lloyd USA LLC (acting as a single party); HMM Co., Ltd.; Zim Integrated Shipping Services; MSC Mediterranean Shipping Company S.A.; and Wan Hai Lines Ltd.

Filing Party: Jeffrey Lawrence and Don Kassilke; Cozen O'Connor.

Synopsis: The amendment changes to the name of Hyundai Merchant Marine Co., Ltd. and updates the address for same.

Proposed Effective Date: 7/6/2020.

Location: https://www2.fmc.gov/FMC.Agreements.Web/Public/AgreementHistory/1560.

Dated: July 10, 2020.
JoAnne O'Bryant,
Program Analyst.

[FR Doc. 2020-15291 Filed 7-14-20; 8:45 am]

BILLING CODE 6730-02-P